DEPARTMENT OF LABOR

Employment and Training Administration

[TA-W-39,530]

Facemate Corporation, Collierville, TN; Dismissal of Application for Reconsideration

Pursuant to 29 CFR 90.18(C) an application for administrative reconsideration was filed with the Director of the Division of Trade Adjustment Assistance for workers at Facemate Corporation, Collierville, Tennessee. The application contained no new substantial information which would bear importantly on the Department's determination. Therefore, dismissal of the application was issued.

TA-W-39,530; Facemate Corporation, Collierville, Tennessee (February 15, 2002).

Signed at Washington, DC this 1st day of March, 2002.
Edward A. Tomchick,
Director, Division of Trade Adjustment Assistance.

[FR Doc. 02-5578 Filed 3-7-02; 8:45 am]

BILLING CODE 4510-30-M